DEPARTMENT OF AGRICULTURE

Animal and Plant Health Inspection Service

9 CFR Parts 93 and 94

[Docket No. 02-046-3]

RIN 0579-AB79

Importation of Swine and Swine Products from the European Union; Correction

AGENCY: Animal and Plant Health Inspection Service, USDA.

ACTION: Final rule; correction.

SUMMARY: In a final rule published in the Federal Register on May 19, 2006, we amended the regulations governing the importation of animals and animal products into the United States to apply a uniform set of importation requirements related to classical swine fever (CSF) to a region consisting of all of the 15 Member States of the European Union (EU) that comprised the EU as of April 30, 2004 (the EU-15) and prohibit for a specified period of time the importation of live swine and swine products from any area in the EU-15 that is identified by the veterinary authorities of the region as a restricted zone.

The final rule contained an error in the rule portion in the list of CSF-free regions and an error regarding the designation of a section being amended. This document corrects those errors.

DATES: Effective June 19, 2006.

FOR FURTHER INFORMATION CONTACT: Dr. Chip Wells, Senior Staff Veterinarian, Regionalization and Evaluation Services, National Center for Import and Export, VS, APHIS, 4700 River Road Unit 38, Riverdale, MD 20737-1231; (301) 734-4356.

SUPPLEMENTARY INFORMATION:

Background

In a final rule published in the Federal Register on May 19, 2006 (71 FR 29061-29072, Docket No. 02-046-2), we amended the regulations governing the importation of animals and animal products into the United States to apply a uniform set of importation requirements related to classical swine fever (CSF) to a region consisting of all of the 15 Member States of the European Union (EU) that comprised the EU as of April 30, 2004 (the EU-15) and prohibit for a specified period of time the importation of live swine and swine products from any area in the EU-15 that is identified by the veterinary authorities of the region as a restricted zone.

In the rule portion of the final rule, we revised §§ 94.9(a) and 94.10(a). Both of those paragraphs list the regions of the world that APHIS considers free of CSF. In the lists set out in the final rule, we inadvertently omitted several regions that APHIS had recognized in previous rulemaking as being free of CSF. Those regions are the Mexican States of Campeche, Quintana Roo, Sonora, and Yucatan. We are correcting those lists.

Also, in the rule portion of the final rule, we designated as § 94.25 what had been designated as § 94.24 in the proposed rule, in effect removing the existing text in § 94.25. That was incorrect; § 94.24 as proposed should have remained designated as § 94.24 in the final rule and § 94.25 should have remained unchanged. We are correcting those errors by redesignating as § 94.24 the section we designated as § 94.25 in the final rule and by reinserting § 94.25 as it appeared before publication of the final rule. Additionally, we are correcting references in §§ 93.505(a), 94.9(c), and 94.10(c) of the final rule to refer to § 94.24, rather than to § 94.25.

List of Subjects

9 CFR Part 93

Animal diseases, Imports, Livestock, Poultry and poultry products, Quarantine, Reporting and recordkeeping requirements.

9 CFR Part 94

Animal diseases, Imports, Livestock, Meat and meat products, Milk, Poultry and poultry products, Reporting and recordkeeping requirements.

Accordingly, 9 CFR parts 93 and 94 are amended as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622 and 8301-8317; 21 U.S.C. 136 and 136a; 31 U.S.C. 9701; 7 CFR 2.22, 2.80, and 371.4.

§ 93.505 [Amended]

2. In § 93.505, paragraph (a) is amended by removing the reference to “§ 94.25(b)(6)” and adding in its place a reference to “§ 94.24(b)(6)”.

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

3. The authority citation for part 94 continues to read as follows:

Authority: 7 U.S.C. 450, 7701-7772, 7781-7786, and 8301-8317; 21 U.S.C. 136 and 136a; 31 U.S.C. 9701; 7 CFR 2.22, 2.80, and 371.4.

4. In § 94.9, paragraphs (a) and (c) introductory text are revised to read as follows:

§ 94.9 Pork and pork products from regions where classical swine fever exists.

(a) Classical swine fever is known to exist in all regions of the world except Australia; Canada; Chile; Fiji; Iceland; the Mexican States of Baja California, Baja California Sur, Campeche, Chihuahua, Quintana Roo, Sinaloa, Sonora, and Yucatan; New Zealand; Norway; and Trust Territory of the Pacific Islands.¹

¹ See also other provisions of this part and parts 93, 95, and 96 of this chapter, and part 327 of this title, for other prohibitions and restrictions upon the importation of swine and swine products.

* * * * *

(c) Except as provided in § 94.24 for the EU-15, no fresh pork or pork product may be imported into the United States from any region where classical swine fever is known to exist unless it complies with the following requirements:

* * * * *

5. In § 94.10, paragraphs (a) and (c) are revised to read as follows:

§ 94.10 Swine from regions where classical swine fever exists.

(a) Classical swine fever is known to exist in all regions of the world, except Australia; Canada; Chile; Fiji; Iceland; the Mexican States of Baja California, Baja California Sur, Campeche, Chihuahua, Quintana Roo, Sinaloa, Sonora, and Yucatan; New Zealand; Norway; and Trust Territory of the Pacific Islands.

* * * * *

(c) Except as provided in § 94.24 for the EU-15, no swine that are moved from or transit any region where classical swine fever is known to exist may be imported into the United States, except for wild swine imported into the United States in accordance with paragraph (d) of this section.

* * * * *

§ 94.24 [Removed] and § 94.25 [Redesignated]

6. Section 94.24 is removed, and § 94.25 is redesignated as § 94.24.

7. A new § 94.25 is added to read as follows:

§ 94.25 Restrictions on the importation of live swine, pork, or pork products from certain regions free of classical swine fever.

The regions listed in paragraph (a) of this section are recognized as free of classical swine fever (CSF) in §§ 94.9(a) and 94.10(a) but either supplement their pork supplies with fresh (chilled or frozen) pork imported from regions considered to be affected by CSF, or supplement their pork supplies with pork from CSF-affected regions that is not processed in accordance with the requirements of this part, or share a common land border with CSF-affected regions, or import live swine from CSF-affected regions under conditions less restrictive than would be acceptable for importation into the United States. Thus, there exists a possibility that live swine, pork, or pork products from the CSF-free regions listed in paragraph (a) of this section may be commingled with live swine, pork, or pork products from CSF-affected regions, resulting in a risk of CSF introduction into the United States. Therefore, live swine, pork, or pork products and shipstores, airplane meals, and baggage containing pork or pork products, other than those articles regulated under parts 95 or 96 of this chapter, may not be imported into the United States from a region listed in paragraph (a) of this section unless the requirements in this section, in addition to other applicable requirements of part 93 of this chapter and part 327 of this title, are met.

(a) Regions subject to the requirements of this section: Chile and the Mexican States of Baja California, Baja California Sur, Campeche, Chihuahua, Quintana Roo, Sinaloa, Sonora, and Yucatan.

(b) Live swine. The swine must be accompanied by a certification issued by a full-time salaried veterinary officer of the national government of the region of export. Upon arrival of the swine in the United States, the certification must be presented to an authorized inspector at the port of arrival. The certification must identify both the exporting region and the region of origin as a region designated in §§ 94.9 and 94.10 as free of CSF at the time the swine were in the region and must state that:

(1) The swine have not lived in a region designated in §§ 94.9 and 94.10 as affected with CSF;

(2) The swine have never been commingled with swine that have been in a region that is designated in §§ 94.9 and 94.10 as affected with CSF;

(3) The swine have not transited a region designated in §§ 94.9 and 94.10 as affected with CSF unless moved directly through the region to their destination in a sealed means of conveyance with the seal intact upon arrival at the point of destination; and

(4) The conveyances or materials used in transporting the swine, if previously used for transporting swine, have been cleaned and disinfected in accordance with the requirements of § 93.502 of this chapter.

(c) Pork or pork products. The pork or pork products must be accompanied by a certification issued by a full-time salaried veterinary officer of the national government of the region of export. Upon arrival of the pork or pork products in the United States, the certification must be presented to an authorized inspector at the port of arrival. The certification must identify both the exporting region and the region of origin of the pork or pork products as a region designated in §§ 94.9 and 94.10 as free of CSF at the time the pork or pork products were in the region and must state that:

(1) The pork or pork products were derived from swine that were born and raised in a region designated in §§ 94.9 and 94.10 as free of CSF and were slaughtered in such a region at a federally inspected slaughter plant that is under the direct supervision of a full-time salaried veterinarian of the national government of that region and that is eligible to have its products imported into the United States under the Federal Meat Inspection Act (21 U.S.C. 601 et seq.) and the regulations in § 327.2 of this title;

(2) The pork or pork products were derived from swine that have not lived in a region designated in §§ 94.9 and 94.10 as affected with CSF;

(3) The pork or pork products have never been commingled with pork or pork products that have been in a region that is designated in §§ 94.9 and 94.10 as affected with CSF;

(4) The pork or pork products have not transited through a region designated in §§ 94.9 and 94.10 as affected with CSF unless moved directly through the region to their destination in a sealed means of conveyance with the seal intact upon arrival at the point of destination; and

(5) If processed, the pork or pork products were processed in a region designated in §§ 94.9 and 94.10 as free of CSF in a federally inspected processing plant that is under the direct supervision of a full-time salaried veterinary official of the national government of that region.

(Approved by the Office of Management and Budget under control numbers 0579-0230 and 0579-0235)

Done in Washington, DC, this 25th day of May, 2006.
Kevin Shea,
Acting Administrator, Animal and Plant Health Inspection Service.

[FR Doc. E6-8465 Filed 5-31-06; 8:45 am]

BILLING CODE 3410-34-P